DEPARTMENT OF TRANSPORTATION

Federal Railroad Administration

[Docket No. FRA-2011-0001-N-7]

Proposed Agency Information Collection Activities; Comment Request

AGENCY: Federal Railroad Administration, (FRA), Department of Transportation (DOT).

ACTION: Notice of Office of Management and Budget (OMB) Approvals.

SUMMARY: In compliance with the Paperwork Reduction Act of 1995 (44 U.S.C. 3501 et seq.) and 5 CFR 1320.5(b), this notice announces that new information collection requirements (ICRs) listed below have been approved by the Office of Management and Budget (OMB). These new ICRs pertain to 49 CFR parts 213, 216, 220, 225, 229, 236, 237, and 240. Additionally, FRA hereby announces that additional ICRs listed below have been re-approved by the Office of Management and Budget (OMB). These ICRs pertain to parts 207, 209, 210, 212, 214, 215, 216, 218, 219, 221, 222, 223, 228, 234, 238, 239, and 244. The OMB approval numbers, titles, and expiration dates are included herein under supplementary information.

FOR FURTHER INFORMATION CONTACT: Mr. Robert Brogan, Office of Planning and Evaluation Division, RRS-21, Federal Railroad Administration, 1200 New Jersey Ave., SE., Mail Stop 25, Washington, DC 20590 (telephone: (202) 493-6292), or Ms. Kimberly Toone, Office of Information Technology, RAD-20, Federal Railroad Administration, 1200 New Jersey Ave., NW., Mail Stop 35, Washington, DC 20590 (telephone: (202) 493-6132). (These telephone numbers are not toll-free.)

SUPPLEMENTARY INFORMATION: The Paperwork Reduction Act of 1995 (PRA), Public Law 104-13, § 2, 109 Stat. 163 (1995) (codified as revised at 44 U.S.C. 3501-3520), and its implementing regulations, 5 CFR part 1320, require Federal agencies to display OMB control numbers and inform respondents of their legal significance once OMB approval is obtained. The following new FRA information collections were approved within the last 18 months: (1.) OMB No. 2130-0533, Qualification for Locomotive Engineers (Final Rule) (49 CFR part 240). The new expiration date for this information collection is July 31, 2013. (2.) OMB No. 2130-0553, Positive Train Control (Final Rule) (49 CFR part 236). The new expiration date for this information collection is May 31, 2013. (3.) OMB No. 2130-0544, Passenger Equipment Safety Standards (Final Rule) (49 CFR parts 216, 229, 238). The new expiration date for this information collection is May 31, 2013. (4.) OMB No. 2130-0587, Notice of Funds Availability and Solicitation of Applications under the Railroad Safety Technology Grant Program (Form FRA F 6180.154). The new expiration date for this information collection is October 31, 2013. (5.) OMB No. 2130-2130-0589, State Highway Rail Grade Crossing Action Plans (Final Rule) (49 CFR part 234). The new expiration date for this information collection is October 31, 2013. (6.) OMB No. 2130-0586, Bridge Safety Standards (Final Rule) (49 CFR parts 213, 237). The new expiration date for this information collection is May 31, 2014. (7.) OMB No. 2130-0590, Alleged Violation Reporting Form (Form FRA F 6180.151). The new expiration date for this information collection is December 31, 2013. (8.) OMB No. 2130-0524, Railroad Communications (Restrictions on Railroad Employees Use of Cellular Telephones and Other Electronic Devices) (Final Rule) (49 CFR part 220). The new expiration date for this information collection is February 28, 2014. (9.) OMB No. 2130-0500, Miscellaneous Amendments to FRA's Accident and Incident Reporting Requirements (Final Rule) (49 CFR part 225) (Forms FRA F 6180.39i, 6180.54, 6180.55, 6180.55a, 6180.56, 6180.57, 6180.78, 6180.81, 6180.98, 6180.107, and 6180.150). The new expiration date for this information collection is February 28, 2014.

The following information collections were re-approved: (1.) OMB No. 2130-0580, Notice of Funds Availability and Solicitation of Applications for Grants under the Railroad Rehabilitation and Repair Grant Program. The new expiration date for this information collection is January 31, 2013. (2) OMB No. 2130-0509, State Safety Participation Regulations and Remedial Actions (49 CFR parts 209 and 212) (Forms FRA F 6180.33, 6180.61, 6180. 67, 6180.96, 6180.109, 6180.110, 6180.111, 6180.112). The new expiration date for this information collection is February 28, 2013. (3) OMB No. 2130-0560, Use of Locomotive Horns at Highway-Rail Grade Crossings (49 CFR part 222). The new expiration date for this information collection is February 28, 2013. (4) OMB No. 2130-0584, American Recovery and Reinvestment Solicitation of Applications and Notice of Funds Availability for High-Speed Rail Corridors and Intercity Passenger Rail Service—Capital Assistance and Planning Grant Program (Form FRA F 6180.132, 6180.33, 6180.34(a)-(d), 6180.135, 6180.138, 6180.139). The new expiration date for this information collection is January 31, 2013. (5) OMB No. 2130-0525, Certification of Glazing Materials (49 CFR part 223). The new expiration date for this information collection is March 31, 2013. (6.) OMB No. 2130-0529, Disqualification Proceedings (49 CFR part 209). The new expiration date for this information collection is April 30, 2013. (7.) OMB No. 2130-0511, Designation of Qualified Persons (49 CFR part 215). The new expiration date for this information collection is May 31, 2013. (8.) OMB No. 2130-0545, Passenger Train Emergency Preparedness (49 CFR 239). The new expiration date for this information collection is June 30, 2013. (9.) OMB No. 2130-0526, Control of Alcohol and Drug Use in Railroad Operations (49 CFR part 219). The new expiration date for this information collection is April 30, 2012. (10.) OMB No. 2130-0516, Remotely Controlled Switch Operations (49 CFR part 218). The new expiration date for this information collection is September 30, 2013. (11.) OMB No. 2130-0519, Bad Order and Home Shop Card (49 CFR part 215). The new expiration date for this information collection is September 30, 2013. (12.) OMB No. 2130-0520, Stenciling Reporting Mark on Freight Cars (49 CFR part 215). The new expiration date for this information collection is September 30, 2013. (13.) OMB No. 2130-0523, Rear-End Marking Devices (49 CFR part 221). The new expiration date for this information collection is September 30, 2013. (14.) OMB No. 2130-0527, Locomotive Certification (Noise Compliance Regulations) (49 CFR part 210). The new expiration date for this information collection is September 30, 2013. (15.) OMB No. 2130-0534, Grade Crossing Signal System Safety (49 CFR 234). The new expiration date for this information collection is September 30, 2013. (16.) OMB No. 2130-0535, Bridge Worker Safety Rules (49 CFR part 214). The new expiration date for this information collection is September 30, 2013. (17.) OMB No. 2130-0537, Railroad Police Officers (49 CFR part 207). The new expiration date for this information collection is September 30, 2013. (18.) OMB No. 2130-0502, Filing of Dedicated Cars (49 CFR part 215). The new expiration date for this information collection is September 30, 2013. (19.) OMB No. 2130-0005, Hours of Service Regulations (49 CFR part 228) (Form FRA F 6180.3). The new expiration date for this information collection is September 30, 2013. (20.) OMB No. 2130-0504, Special Notice for Repairs (49 CFR part 216). The new expiration date for this information collection is September 30, 2013. (21.) OMB No. 2130-0555, Foreign Railroads Foreign Based Employees Who Perform Train or Dispatching Service in the United States (49 CFR part 219). The new expiration date for this information collection is September 30, 2013. (22.) OMB No. 2130-0574, Confidential Close Call Reporting System Evaluation-Related Interview Data Collection (Forms FRA 6180.126A and 6180.126B). The new expiration date for this information collection is March 31, 2014. (23.) OMB No. 2130-0557, Safety Integration Plans (49 CFR part 244). The new expiration date for this information collection is February 28, 2014. (24.) OMB No. 2130-0576, Passenger Train Emergency Systems (49 CFR part 238). The new expiration date for this information collection is February 28, 2014.

Persons affected by the above referenced information collections are not required to respond to any collection of information unless it displays a currently valid OMB control number. These approvals by the Office of Management and Budget (OMB) certify that FRA has complied with the provisions of the Paperwork Reduction Act of 1995 (Pub. L. 104-13) and with 5 CFR 1320.5(b) by informing the public about OMB's approval of the information collection requirements of the above cited forms, studies, and regulations.

Authority: 44 U.S.C. 3501-3520.

Issued in Washington, DC, on June 7, 2011.
Kimberly Coronel,
Director, Office of Financial Management, Federal Railroad Administration.

[FR Doc. 2011-14555 Filed 6-10-11; 8:45 am]

BILLING CODE 4910-06-P